DEPARTMENT OF THE TREASURY

Submission for OMB Review; Comment Request

December 6, 2011.

The Department of the Treasury will submit the following information collection request to the Office of Management and Budget (OMB) for review and clearance in accordance with the Paperwork Reduction Act of 1995, Public Law 104-13, on or after the date of publication of this notice.

DATES: Comments should be received on or before January 11, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or online at http://www.PRAComment.gov.

FOR FURTHER INFORMATION CONTACT: Copies of the submission(s) may be obtained by calling (202) 927-5331, email at PRA@treasury.gov, or the entire information collection request maybe found at http://www.reginfo.gov.

International Affairs

OMB Number: 1505-0016.

Type of Review: Revision of a currently approved collection.

Title: Treasury International Capital Form BQ-1, “Report of Customers' U.S. Dollar Claims on Foreigners”.

Abstract: Form BQ-1 is required by law and is designed to collect timely information on international portfolio capital movements, including U.S. dollar claims of customers of depository institutions, bank and financial holding companies, brokers and dealers vis-à-vis foreigners. The information is necessary in the computation of the U.S. balance of payments accounts and the U.S. international investment position, and in the formulation of U.S. international financial and monetary policies.

Affected Public: Private Sector: Businesses or other for-profits.

Estimated Total Annual Burden Hours: 963.

OMB Number: 1505-0017.

Type of Review: Revision of a currently approved collection.

Title: Treasury International Capital Form BC, “Report of U.S. Dollar Claims of Depository Institutions, Brokers and Dealers on Foreigners”.

Abstract: Form BC is required by law and is designated to collect timely information on international portfolio capital movements, including own U.S. dollar claims of depository institutions, bank and financial holding companies, brokers and dealers vis-à-vis foreigners. The information is necessary in the computation of the U.S. balance of payments accounts and the U.S. international investment position, and in the formulation of U.S. international financial and monetary policies.

Affected Public: Private Sector: Businesses or other for-profits.

Estimated Total Annual Burden Hours: 35,856.

OMB Number: 1505-0019.

Type of Review: Revision of a currently approved collection.

Title: Treasury International Capital Form BL-1, “Report of U.S. Dollar Liabilities of Depository Institutions, Bank Holding Companies/Financial Holding Companies, Brokers, and Dealers to Foreign-Residents”.

Abstract: Form BL-1 is required by law and is designed to collect timely information on international portfolio capital movements, including U.S. dollar liabilities of depository institutions, bank and financial holding companies, brokers and dealers vis-à-vis foreigners. The information is necessary in the computation of the U.S. balance of payments accounts and the U.S. international investment position, and in the formulation of U.S. international financial and monetary policies.

Affected Public: Private Sector: Businesses or other for-profits.

Estimated Total Annual Burden Hours: 29,484.

OMB Number: 1505-0020.

Type of Review: Revision of a currently approved collection.

Title: Treasury International Capital Form BQ-2, “Part 1—Report of Foreign Currency Liabilities and Claims of Depository Institutions, Brokers and Dealers, and of Their Domestic Customers vis-à-vis Foreigners; Part 2—Report of Customers' Foreign Currency Liabilities to Foreigners”.

Abstract: Form BQ-2 is required by law and is designed to collect timely information on international portfolio capital movements, including liabilities and claims of depository institutions, bank and financial holding companies, brokers and dealers, and their customers' liabilities vis-à-vis foreigners, that are denominated in foreign currencies. This information is necessary in the computation of the U.S. balance of payments accounts and the U.S. international investment position, and in the formulation of U.S. international financial and monetary policies.

Affected Public: Private Sector: Businesses or other for-profits.

Estimated Total Annual Burden Hours: 3,938.

OMB Number: 1505-0024.

Type of Review: Revision of a currently approved collection.

Title: Treasury International Capital (TIC) Form CQ-1 “Report of Financial Liabilities to, and Financial Claims on, Foreign Residents” and Form CQ-2 “Report of Commercial Liabilities to, and Commercial Claims on, Unaffiliated Foreign-Residents”.

Abstract: Forms CQ-1 and CQ-2 are required by law to collect timely information on international portfolio capital movements, including data on financial and commercial liabilities to, and claims on, unaffiliated foreigners and certain affiliated foreigners held by non-banking enterprises in the U.S. This information is necessary in the computation of the U.S. balance of payments accounts and the U.S. international investment position, and in the formulation of U.S. international financial and monetary policies.

Affected Public: Private Sector: Businesses or other for-profits.

Estimated Total Annual Burden Hours: 5,616.

OMB Number: 1505-0149.

Type of Review: Revision of a currently approved collection.

Title: 31 CFR Part 128, Reporting of International Capital and Foreign Currency Transactions and Positions.

Abstract: Title 31 CFR Part 128 establishes general guidelines for reporting on U.S. claims on, and liabilities to foreigners; on transactions in securities with foreigners; and on monetary reserve of the U.S. It also establishes guidelines for reporting on the foreign currency of U.S. persons. It includes a recordkeeping requirement in section 128.5.

Affected Public: Private Sector: Businesses or other for-profits.

Estimated Total Annual Burden Hours: 5,683.

Dawn D. Wolfgang,
Treasury PRA Clearance Officer.

[FR Doc. 2011-31711 Filed 12-9-11; 8:45 am]

BILLING CODE 4810-25-P